DEPARTMENT OF THE INTERIOR

National Park Service

Notice of Advisory Commission Meeting

AGENCY: National Park Service, Interior.

SUMMARY: Notice is hereby given in accordance with the Federal Advisory Commission Act that a meeting of the Jimmy Carter National Historic Site Advisory Commission will be held at 8:30 a.m. to 4 p.m. at the following location and date.

DATES: July 11, 2006.

ADDRESSES: The Carter Library, 453 Freedom Parkway, Atlanta, Georgia 30307.

SUPPLEMENTARY INFORMATION: The purpose of the Jimmy Carter National Historic Site Advisory Commission is to advise the Secretary of the Interior or their designee on achieving balanced and accurate interpretation of the Jimmy Carter National Historic Site. The members of the Advisory Commission are as follows: Dr. James Sterling Young, Dr. Barbara J. Fields, Dr. Donald B. Schewe, Dr. Steven H. Hochman, Dr. Jay Hakes, Director, National Park Service, Ex-Officio member.

The matters to be discussed at this meeting include the status of park development and planning activities. This meeting will be open to the public. However, facilities and space for accommodating members of the public are limited. Any member of the public may file with the commission a written statement concerning the matters to be discussed. Written statements may also be submitted to the Superintendent at the address below. Minutes of the meeting will be available at Park Headquarters for public inspection approximately 4 weeks after the meeting.

FOR FURTHER INFORMATION CONTACT: Lizzie Watts, Superintendent, Jimmy Carter National Historic Site, 300 North Bond Street, Plains, Georgia 31780, 229-824-4104, extension 23.

Dated: May 30, 2006.
Patricia A. Hooks,
Regional Director, Southeast Region.

[FR Doc. E6-11098 Filed 7-13-06; 8:45 am]

BILLING CODE 4312-74-P